COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and a service to the Procurement List that will be furnished by nonprofit agencies employing persons who are blind or have other severe disabilities.

DATES: Effective Date: 8/29/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/27/2011 (76 FR 30923-30924) and 6/3/2011 (76 FR 32146), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

NSN: 8105-00-NIB-1309—Can Liner, Low Density, Gusset Cut, Clear, 12x8x22.

NSN: 8105-00-NIB-1322—Can Liner, Low Density, Star Seal, Clear, 24x33.

NSN: 8105-00-NIB-1323—Can Liner, Low Density, Star Seal, Clear, 33x44.

NSN: 8105-00-NIB-1324—Can Liner, Low Density, Star Seal, Clear, 40x48.

NPA: Envision, Inc., Wichita, KS.

Contracting Activity: Department of Veterans Affairs National Acquisition Center, Hines, IL.

Coverage: C-List for 100% of the requirement of the Department of Veterans Affairs as aggregated by the Department of Veterans Affairs National Acquisition Center, Hines, IL.

NSN: M.R. 301—Silicone Spatula.

NSN: M.R. 302—Silicone Batter Spoon.

NSN: M.R. 303—Silicone Whisk.

NSN: M.R. 304—Silicone Tong w/Locking Handle.

NPA: Industries for the Blind, Inc., West Allis, WI.

Contracting Activity: Defense Commissary Agency, Fort Lee, VA.

Coverage: C-List for the requirements of military commissaries and exchanges as aggregated by the Defense Commissary Agency.

Service

Service Type/Location: Janitorial Service, Norman Military Complex (excluding Norman Armed Force Reserve Center), Norman, OK.

NPA: Dale Rogers Training Center, Inc., Oklahoma City, OK.

Contracting Activity: Dept. of the Army, W7NV USPFO Activity OK ARNG, Oklahoma City, OK.

Barry S. Lineback,
Director, Business Operations.

[FR Doc. 2011-19195 Filed 7-28-11; 8:45 am]

BILLING CODE 6353-01-P